DEPARTMENT OF LABOR

Office of the Secretary

Submission for OMB Review: Comment Request

January 5, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Employee Benefits Security Administration (EBSA), Office of Management and Budget, Room 10235, Washington, DC 20503, Telephone: 202-395-7316 / Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Annual Report for Multiple Employer Welfare Arrangements (Form M-1).

OMB Number: 1210-0116.

Frequency: Annually.

Type of Response: Reporting.

Affected Public: Private Sector: Business or other for-profit and Not-for-profit institutions.

Estimated Number of Respondents: 515.

Estimated Number of Annual Responses: 515.

Average Response Time: Approximately 9 minutes (average across all filers).

Estimated Total Burden Hours: 78.

Estimated Total Annualized capital/startup costs: $0.

Estimated Total Annual Costs (operating/maintaining systems or purchasing services): $45,520.

Description: The Department's regulation at 29 CFR 2520.101-2 requires annual reporting by “multiple employer welfare arrangements,” as defined in section 3(40) of Employee Retirement Income Security Act (ERISA), and certain other entities claiming an exception from the ERISA definition of “multiple employer welfare arrangements,” for the purpose of determining the extent to which such entities comply with Part 7 of ERISA. The Department provides a form (Form M-1) for the required reporting and also provides an electronic filing system through which entities may complete the required Form M-1 and file it without cost.

Pursuant to section 101(g) of ERISA, the Form M-1 information is used by governmental oversight entities to determine the extent of compliance with the requirements of Part 7 of ERISA by multiple employer welfare arrangements and entities claiming exception under section 3(40) of ERISA and to take appropriate compliance assistance and enforcement actions.

Agency: Employee Benefits Security Administration.

Type of Review: Extension without change of currently approved collection.

Title: ERISA Investment Manager Electronic Registration.

OMB Number: 1210-0125.

Frequency: Annually.

Type of Response: Reporting.

Affected Public: Private Sector: Business or other for-profit and Not-for-profit institutions.

Estimated Number of Respondents: 500.

Estimated Number of Annual Responses: 500.

Average Response Time: 2 hours for new filers and 1 hour for existing annual filers.

Estimated Total Burden Hours: 550.

Estimated Total Annualized capital/startup costs: $0.

Estimated Total Annual Costs (operating/maintaining systems or purchasing services): $17,500.

Description: The Department's regulation at 29 CFR 2510.3-38 provides that, in order to meet the definition of investment manager in the Employee Retirement Income Security Act 3(38), state-registered investment advisers must register electronically through a centralized electronic filing system established by the Securities and Extension Commission and state investment authorities (“Investment Advisor Registration Depository”/ IARD) rather than providing a paper copy of their state registration to the Secretary of Labor.

Although the primary users of the information collected through the Department's regulation are plan fiduciaries, who can review the IARD registration statements for information about investment advisers that are either currently service providers to the plan or potential service providers to the plan, EBSA also uses the information for enforcement and compliance purposes. EBSA investigators are expected to review IARD data whenever they conduct an investigation that involves investment advisers or investment managers.

Darrin A. King,
Acting Departmental Clearance Officer.

[FR Doc. E7-164 Filed 1-9-07; 8:45 am]

BILLING CODE 4510-29-P